DEPARTMENT OF AGRICULTURE

Forest Service

Tri-County Advisory Committee Meeting

AGENCY: Forest Service, USDA.

ACTION: Notice of meeting.

SUMMARY: The Tri-County Resource Advisory Committee (RAC) will meet on Thursday, March 26, 2009, from 5 p.m. until 8 p.m., in Deer Lodge, Montana. The purpose of the meeting is to conduct “welcomes” and introductions, review Federal Advisory Committee Act requirements, brief participants on Payments to States legislative history, discuss the guidelines for Title II and Title III funding and proposals, capture and record preliminary project ideas, and receive public comment on the meeting subjects and proceedings.

DATES: Thursday, March 26, 2009, from 5 p.m. until 8 p.m.

ADDRESSES: The meeting will be held at the USDA building located 1002 Hollenback Road, Deer Lodge, Montana (MT 59722).

FOR FURTHER INFORMATION CONTACT: Sonja Shadow, Committee Coordinator, Beaverhead-Deerlodge National Forest, 420 Barrett Road, Dillon, MT 59725; (406) 683-3984; e-mail sshadow@fs.fed.us.

SUPPLEMENTARY INFORMATION: Agenda items to be covered include: (1) Welcome and Committee introductions; (2) Federal Advisory Committee Act overview; (3) review of Payments to States legislative history and discussion of requirements related to Title II and Title III funding; (4) discussion of Committee member roles and operational guidelines; (5) discussion of preliminary project ideas; (6) review of next meeting purpose, location, and date; (7) and receive public comment. The meeting is open to the public. Public input opportunity will be provided and individuals will have the opportunity to address the Committee at that time.

Dated: March 4, 2009.
Bruce Ramsey,
Designated Federal Official.

[FR Doc. E9-5161 Filed 3-9-09; 8:45 am]

BILLING CODE 3410-11-M